ADMINISTRATIVE CONFERENCE OF THE UNITED STATES

Notice of Public Meeting of the Assembly of the Administrative Conference of the United States

AGENCY: Administrative Conference of the United States.

ACTION: Notice.

SUMMARY: Pursuant to the Federal Advisory Committee Act, the Assembly of the Administrative Conference of the United States will hold a meeting to consider five proposed recommendations and to conduct other business. This meeting will be open to the public.

DATES: The meeting will take place on Thursday, December 14, 2017, 1:00 p.m. to 5:30 p.m., and Friday, December 15, 2017, 9:00 a.m. to 12:00 noon. The meeting may adjourn early if all business is finished.

ADDRESSES: The meeting will be held at the Commodity Futures Trading Commission, Three Lafayette Centre, 1155 21st Street, NW., Washington, DC 20581 (Main Conference Room).

FOR FURTHER INFORMATION CONTACT: Shawne McGibbon, General Counsel (Designated Federal Officer), Administrative Conference of the United States, Suite 706 South, 1120 20th Street NW., Washington, DC 20036; Telephone 202-480-2088; email smcgibbon@acus.gov.

SUPPLEMENTARY INFORMATION: The Administrative Conference of the United States makes recommendations to federal agencies, the President, Congress, and the Judicial Conference of the United States regarding the improvement of administrative procedures (5 U.S.C. 594). The membership of the Conference, when meeting in plenary session, constitutes the Assembly of the Conference (5 U.S.C. 595).

Agenda: The Assembly will consider five proposed recommendations as described below:

Plain Language in Regulatory Drafting. This proposed recommendation identifies tools and techniques agencies have used successfully to write regulatory documents (including rulemaking preambles and guidance documents) using plain language, proposes best practices for agencies in structuring their internal drafting processes, and suggests ways agencies can best use trainings and other informational resources.

Marketable Permits. This proposed recommendation provides best practices for structuring, administering, and overseeing marketable permitting programs for any agency that has decided to implement such a program.

Agency Guidance. This proposed recommendation provides best practices to agencies on the formulation and use of guidance documents.

Regulatory Experimentation. This proposed recommendation offers advice to agencies on learning from different regulatory approaches. It encourages agencies to collect data, conduct analysis at all stages of the rulemaking lifecycle (from pre-rule analysis to retrospective review), and solicit public input at appropriate points in the process.

Regulatory Waivers and Exemptions. This proposed recommendation provides best practices to agencies concerning their use of waivers and exemptions. It offers recommendations on how agencies should structure their waiver and exemption procedures to increase transparency and promote public input.

Additional information about the proposed recommendations and the order of the agenda, as well as other materials related to the meeting, can be found at the 68th Plenary Session page on the Conference's Web site: https://www.acus.gov/meetings-and-events/plenary-meeting/68th-plenary-session.

Public Participation: The Conference welcomes the attendance of the public at the meeting, subject to space limitations, and will make every effort to accommodate persons with disabilities or special needs. Members of the public who wish to attend in person are asked to RSVP online at the 68th Plenary Session Web page shown above, no later than two days before the meeting, in order to facilitate entry. Members of the public who attend the meeting may be permitted to speak only with the consent of the Chairman and the unanimous approval of the members of the Assembly. If you need special accommodations due to disability, please inform the Designated Federal Officer noted above at least 7 days in advance of the meeting. The public may also view the meeting through a live webcast, which will be available at: https://livestream.com/ACUS.

Written Comments: Persons who wish to comment on any of the proposed recommendations may do so by submitting a written statement either online by clicking “Submit a Comment” on the 68th Plenary Session Web page shown above or by mail addressed to: December 2017 Plenary Session Comments, Administrative Conference of the United States, Suite 706 South, 1120 20th Street, NW., Washington, DC 20036. Written submissions must be received no later than 10:00 a.m. (EDT), Wednesday, December 13, to assure consideration by the Assembly.

Dated: November 17, 2017.
Shawne McGibbon,
General Counsel.

[FR Doc. 2017-25374 Filed 11-22-17; 8:45 am]

BILLING CODE 6110-01-P